Title 3—

The President

Proclamation 8289

Constitution Day and Citizenship Day, Constitution Week, 2008

By the President of the United States of America

A Proclamation

Americans are united by the ideals of equal justice, limited government, and the rule of law. On Constitution Day and Citizenship Day and during Constitution Week, we remember the vision and determination of the Framers to build a free society, and we celebrate the historical document they created to achieve that goal.

More than two centuries ago, our Founding Fathers gathered in Philadelphia and produced a charter that would promote justice and preserve the liberty of all our citizens. The Founders established three separate branches of Government with a system of checks and balances among them. Ours is the oldest written constitution in the world, and the American experiment remains the world's best hope for freedom.

The Constitution forged the American creed of liberty and equality and has lifted the lives of countless individuals. Whether they are citizens by birth or by oath, Americans share a great tradition of enjoying liberty protected by a constitutional government of their choosing.

On Constitution Day and Citizenship Day, and during Constitution Week, Americans come together and recognize the blessings bestowed upon our great Nation. On this occasion we celebrate the courage of the Constitution's drafters and recommit ourselves to making the United States a more perfect union.

In recognition of the signing of the Constitution and of Americans who strive to fulfill the duties and responsibilities of citizenship, the Congress, by joint resolution of February 29, 1952 (36 U.S.C. 106, as amended), designated September 17 as “Constitution Day and Citizenship Day,” and by joint resolution of August 2, 1956 (36 U.S.C. 108, as amended), requested that the President proclaim the week beginning September 17 and ending September 23 of each year as “Constitution Week.”

NOW, THEREFORE, I, GEORGE W. BUSH, President of the United States of America, do hereby proclaim September 17, 2008, as Constitution Day and Citizenship Day, and September 17 through September 23, 2008, as Constitution Week. I encourage Federal, State, and local officials, as well as leaders of civic, social, and educational organizations, to conduct ceremonies and programs that celebrate our Constitution and reaffirm our rights and responsibilities as citizens of this great Nation.

IN WITNESS WHEREOF, I have hereunto set my hand this seventeenth day of September, in the year of our Lord two thousand eight, and of the Independence of the United States of America the two hundred and thirty-third.

[FR Doc. E8-22116

Filed 9-18-08; 8:45 am]

Billing code 3195-01-P